DEPARTMENT OF TRANSPORTATION

Federal Aviation Administration

Agency Information Collection Activities: Requests for Comments; Clearance of Renewed Approval of Information Collection: Waivers and ATC Authorization in Controlled Airspace Under Part 107

AGENCY: Federal Aviation Administration (FAA), DOT.

ACTION: Notice and request for comments.

SUMMARY: In accordance with the Paperwork Reduction Act of 1995, the Department of Transportation invites public comments about our intention to request the Office of Management and Budget (OMB) approval to renew a previously approved information collection. The FAA established the Waivers and ATC Authorization in Controlled Airspace under Part 107 portal to allow a remote pilot in command to request a waiver from regulations or an authorization for a small unmanned aircraft system (UAS) to operate in Class B, C, D, and the lateral boundaries of the surface area of Class E airspace designated for an airport.

DATES: Written comments should be submitted by April 3, 2017.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

PUBLIC COMMENTS INVITED: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION: OMB Control Number: 2120-0768.

Title: ATC authorizations in Controlled Airspace under Part 107.

Form Numbers: None.

Type of Review: Renewal of an information collection.

Background: The Department intends to submit this information collection to OMB to request an approval for the information collection currently titled “ATC Authorization in Controlled Airspace under Part 107.” The Department requests approval for a renewal of this information collection approval that will include expanding the information collection to encompass requests for Waivers under 14 CFR part 107, subpart D, currently approved as Information Collection 2120-0027, which covers waivers issued by the FAA under Part 91. In this information collection, the Department does not intend to affect those waivers in any manner. As a result, the Department requests approval for information collections for Part 107 waivers and airspace authorizations within Information Collection 2120-0768.

The FAA uses the ATC Authorization in Controlled Airspace and Waivers under 14 CFR part 107, subpart D portal to determine whether the remote pilot can safely conduct the proposed small UAS operation in controlled airspace (Class B, C, D, and Class E surface areas), and/or whether the remote pilot can safely operate the small UAS under the terms of a waiver that authorizes deviation from a particular regulation. In this regard, the FAA reviews and analyzes the information it collects through the Certificate of Waiver or Authorization to determine the type and extent of the intended deviation from prescribed regulations. The remote pilot in command will be required to submit information electronically to the FAA regarding the operation to be conducted. Information will include contact information for the remote pilot in command, the date and time of the operation, as well as its anticipated duration, and the airspace for which the request is submitted. If the remote pilot in command wishes to conduct the same operation on a number of dates/times, the request will permit multiple dates/times to be listed to reduce the number of submissions required.

In general, the FAA will issue a certificate of waiver or authorization to deviate to the applicant (individuals and businesses) if the proposed operation does not create a hazard to persons, property, other aircraft, and includes the operation of unmanned aircraft. To obtain such a certificate of waiver, an applicant must submit a request containing a complete description of the proposed operation and a justification, including supporting data and documentation as necessary that establishes the operation will not endanger the national airspace system or people on the ground. The FAA expects the amount of data and analysis required as part of the application will be proportional to the specific relief the applicant requests.

Respondents: Approximately 19,000 requests per year.

Frequency: On occasion.

Estimated Average Burden per Response: .5 hour.

Estimated Total Annual Burden: 9,500 hours.

Issued in Washington, DC, on February 8, 2017.
Ronda L. Thompson,
FAA Information Collection Clearance Officer, Performance, Policy & Records Management Branch, ASP-110.

[FR Doc. 2017-04054 Filed 3-1-17; 8:45 am]

BILLING CODE 4910-13-P